DEPARTMENT OF JUSTICE

Antitrust Division

Notice Pursuant to the National Cooperative Research and Production Act of 1993 -- tranSMART Foundation

Notice is hereby given that, on July 3, 2013, pursuant to Section 6(a) of the National Cooperative Research and Production Act of 1993, 15 U.S.C. 4301 et seq. (“the Act”), tranSMART Foundation (“tranSMART”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is tranSMART Foundation, Wakefield, MA. The nature and scope of tranSMART's standards development activities are to enable effective sharing, integration, standardization, and analysis of heterogeneous data from collaborative translational research by mobilizing the tranSMART open-source and open-data community.

In furtherance of that purpose, tranSMART may engage in some or all of the following activities: (a) Establish and sustain tranSMART as the preferred data sharing and analytics platform for translational biomedical research; (b) link academic, non-profit and corporate research communities for collaborative research facilitated by tranSMART; (c) align and grow a vibrant developer network around the scientific goals of the tranSMART community; (d) reduce barriers to entry through use of advanced technologies and an active marketplace; and (e) undertake such other activities as may from time to time be appropriate to further the purposes and achieve the goals set forth above.

Patricia A. Brink,
Director of Civil Enforcement, Antitrust Division.

[FR Doc. 2013-18071 Filed 7-26-13; 8:45 am]

BILLING CODE P